ENVIRONMENTAL PROTECTION AGENCY

[FRL-7442-3]

Notice of Proposed Purchaser Agreement Pursuant to the Comprehensive Environmental Response, Compensation and Liability Act of 1980, as Amended by the Superfund Amendments and Reauthorization Act

AGENCY: Environmental Protection Agency (EPA).

ACTION: Notice; request for public comment.

SUMMARY: In accordance with the Comprehensive Environmental Response, Compensation, and Liability Act of 1980, as amended by the Superfund Amendments and Reauthorization Act of 1986 (“CERCLA”), 42 U.S.C. 9601-9675, notice is hereby given that a proposed purchaser agreement (“Purchaser Agreement”) associated with the Commodore Semiconductor Group Superfund Site (“Site”) located in Norristown, Pennsylvania, was executed by the Environmental Protection Agency and the Department of Justice and is now subject to public comment, after which the United States may modify or withdraw its consent if comments received disclose facts or considerations which indicate that the Purchaser Agreement is inappropriate, improper, or inadequate. The Purchaser Agreement will resolve certain potential EPA claims under sections 106 and 107 of CERCLA, 42 U.S.C. 9606 and 9607, against 950 Rittenhouse, Inc., and 950 Rittenhouse Associates, L.P. (“Purchaser”). The property subject to the Purchaser Agreement is the Site which encompasses approximately 14 acres at 950 Rittenhouse Road, in the Valley Forge Corporate Center in Lower Providence Township, Norristown, Pennsylvania. A portion of the Site had been operated as a semiconductor chip manufacturing facility. At the time the building was constructed, a 250-gallon underground concrete storage tank was installed adjacent to the southeast side of the building. The concrete tank was used to store a waste solution known to contain trichloroethene (“TCE”) and other solvents. According to information obtained by EPA from Commodore Business Machines, Inc., the former operator of the Facility, contents from the underground concrete storage tank leaked in 1974.

In February 1984, EPA performed a Site Inspection (“SI”) at the Site. A Preliminary Assessment (“PA”) and another SI were subsequently completed by EPA on December 5 and 12, 1986, respectively. Sampling results revealed the presence of trichloroethene (“TCE”) in nearby residential wells. EPA also found the presence of volatile organic compounds (“VOCs”) which include trichloroethene (“TCE”), trichloroethane (“TCA”), 1,2 dichloroethene, 1,1 dichloroethene, and 1,1 dichloroethane and vinyl chloride in groundwater, surface water, and soil samples taken from the Site.

For thirty (30) days following the date of publication of this notice, the Agency will accept written comments relating to the proposed Purchaser Agreement. The Agency's response to any comments received will be available for public inspection at the U.S. Environmental Protection Agency, Region III, 1650 Arch Street, Philadelphia, PA 19103.

DATES: Comments must be submitted on or before February 27, 2003.

Availability: The proposed Purchaser Agreement and additional background information relating to the proposed Purchaser Agreement are available for public inspection at the U.S. Environmental Protection Agency, Region III, 1650 Arch Street, Philadelphia, PA 19103. A copy of the proposed Purchaser Agreement may be obtained from Suzanne Canning, U.S. Environmental Protection Agency, Legal Program Coordinator (3RC00), 1650 Arch Street, Philadelphia, PA 19103. Comments should reference the “Commodore Semiconductor Group Superfund Site Prospective Purchaser Agreement” and “EPA Docket No. CERCLA-03-2002-0071,” and should be forwarded to Suzanne Canning at the above address.

FOR FURTHER INFORMATION CONTACT: Yvette Hamilton-Taylor (3RC43), Senior Assistant Regional Counsel, U.S. Environmental Protection Agency, 1650 Arch Street, Philadelphia, PA 19103, Phone: (215) 814-2636.

Dated: December 30, 2002.
Thomas Voltaggio,
Acting Regional Administrator, Region III.

[FR Doc. 03-1866 Filed 1-27-03; 8:45 am]

BILLING CODE 6560-50-P